DEPARTMENT OF LABOR

Mine Safety and Health Administration

Petition for Modification of Application of an Existing Mandatory Safety Standard

AGENCY: Mine Safety and Health Administration, Labor.

ACTION: Notice.

SUMMARY: This notice includes the summaries of three petitions for modification submitted to the Mine Safety and Health Administration (MSHA) by the parties listed below.

DATES: All comments on the petitions must be received by MSHA's Office of Standards, Regulations, and Variances on or before March 25, 2022.

ADDRESSES: You may submit your comments including the docket number of the petition by any of the following methods:

1. Email: zzMSHA-comments@dol.gov. Include the docket number of the petition in the subject line of the message.

2. Facsimile: 202-693-9441.

3. Regular Mail or Hand Delivery: MSHA, Office of Standards, Regulations, and Variances, 201 12th Street South, Suite 4E401, Arlington, Virginia 22202-5452.

Attention: S. Aromie Noe, Acting Director, Office of Standards, Regulations, and Variances. Persons delivering documents are required to check in at the receptionist's desk in Suite 4E401. Individuals may inspect copies of the petition and comments during normal business hours at the address listed above. Before visiting MSHA in person, call 202-693-9455 to make an appointment, in keeping with the Department of Labor's COVID-19 policy. Special health precautions may be required.

MSHA will consider only comments postmarked by the U.S. Postal Service or proof of delivery from another delivery service such as UPS or Federal Express on or before the deadline for comments.

FOR FURTHER INFORMATION CONTACT: S. Aromie Noe, Office of Standards, Regulations, and Variances at 202-693-9440 (voice), petitionsformodification@dol.gov (email), or 202-693-9441 (facsimile). [These are not toll-free numbers.]

SUPPLEMENTARY INFORMATION: Section 101(c) of the Federal Mine Safety and Health Act of 1977 and Title 30 of the Code of Federal Regulations (CFR) part 44 govern the application, processing, and disposition of petitions for modification.

I. Background

Section 101(c) of the Federal Mine Safety and Health Act of 1977 (Mine Act) allows the mine operator or representative of miners to file a petition to modify the application of any mandatory safety standard to a coal or other mine if the Secretary of Labor (Secretary) determines that:

1. An alternative method of achieving the result of such standard exists which will at all times guarantee no less than the same measure of protection afforded the miners of such mine by such standard; or

2. The application of such standard to such mine will result in a diminution of safety to the miners in such mine.

3. In addition, sections 44.10 and 44.11 of 30 CFR establish the requirements for filing petitions for modification.

II. Petitions for Modification

Docket Number: M-2021-042-C.

Petitioner: Signal Peak Energy, LLC. 100 Portal Drive, Roundup, Montana, 59072.

Mine: Bull Mountains Mine No. 1, MINE ID No. 24-01950, located in Musselshell County, Montana.

Regulation Affected: 30 CFR 18.35(a)(5)(i) (Portable (trailing) cables and cords).

Modification Request: The petitioner seeks modification of the existing standard to permit 995-volt trailing cable lengths up to 1,000 feet in continuous mining sections. The petitioner states that the mine runs continuous miner sections with shuttle cars, roof bolters, and a continuous miner. Distribution boxes are required to remain in compliance using maximum trailing cables lengths on development of recovery rooms. The distribution boxes must be advanced progressively and electrical connections made with each breakthrough. The petitioner's alternative method to 30 CFR 18.35 would allow for 1,000-feet trailing cables to apply to continuous miners, shuttle cars, and roof bolters. The proposed alternative method will minimize the needs for distribution boxes and electrical connections to be made and will provide no less than the same measure of protection required by section 18.35.

The petitioner states that:

(a) The maximum length for 995-volt trailing cables will be 1,000 feet. The length of 1,000 feet will apply to trailing cables for continuous miners, shuttle cars, and roof bolters.

(b) Cable Sizes:

1. The 995-volt continuous mining machine trailing cables shall not be smaller than 2/0 American Wire Gauge (AWG).

2. The 995-volt trailing cables for shuttle cars and roof bolters shall not be smaller than No.2 AWG.

(c) Circuit Breaker Protection:

1. All circuit breakers used to protect 2/0 AWG trailing cables exceeding 850 feet in length shall have instantaneous trip units calibrated to trip at 1,280 amperes and will be labeled.

2. All circuit breakers used to protect No. 2 AWG trailing cables exceeding 700 feet in length shall have instantaneous trip units calibrated at 500 amperes and will be labeled.

(d) Replacement Instantaneous Trip Units:

1. Replacement instantaneous trip units used to protect 2/0 AWG trailing cables will be calibrated to trip at 1,280 amperes. The trip setting of these circuit breakers will be sealed or locked, and will have permanent legible labels. Each label will identify the circuit breaker as being suitable for protecting 2/0 cables. The label will be maintained to be legible.

2. Replacement instantaneous trip units used to protect No. 2 AWG trailing cables will be calibrated to trip at 500 amperes. The trip setting of these circuit breakers will be sealed or locked, and will have permanent legible labels. Each label will identify the circuit breaker as being suitable for protecting No. 2 AWG cables. The label will be maintained to be legible.

(e) All components that provide short-circuit protection shall have a sufficient interruption rating in accordance with the maximum calculated fault currents available.

(f) Trip settings will not exceed the setting specified in the approval in documentation or 70 percent of the maximum available current, whichever is less.

(g) Any trailing cable that is not in safe operating condition shall be removed from service immediately and repaired or replaced.

(h) Each splice or repair in the trailing cables shall be made in a workmanlike manner and in accordance with the instructions of the manufacturer of the splice repair kit. Splices will be made with an MSHA-approved splice wrap.

(i) Before each production shift, persons designated by the operator will visually examine the trailing cables to ensure that the cables are in safe operating condition and that the trip settings of the calibrated breakers do not have seals or locks removed and that they do not exceed the settings stipulated in paragraphs (b) and (c).

The petitioner asserts that the alternate method proposed will at all times guarantee no less than the same measure of protection afforded the miners under the applicable standard.

Docket Number: M-2021-043-C.

Petitioner: Century Mining, LLC, 7004 Buckhannon Road, Volga, West Virginia, 26238.

Mine: Longview Mine, MSHA ID No. 46-09447, located in Barbour County, West Virginia.

Regulation Affected: 30 CFR 75.1904(b)(6) (Underground diesel fuel tanks and safety cans).

Modification Request: The petitioner requests a modification of the existing standard, 30 CFR 75.1904(b)(6), to permit an alternative method of compliance to allow the use of a Brookville 25-ton diesel locomotive in a dual role as a motor/diesel fuel transportation unit. Specifically, the petitioner is requesting a modification of the existing standard as it applies to the requirement for a shut-off valve in the diesel return line from the locomotive's engine back to the fuel tank.

The petitioner states that:

(a) The Longview Mine is currently under construction. The mine's slope floor will have rail installed for diesel equipment, including Brookville locomotives, to transport personnel, equipment, and supplies. The petitioner will use a Brookville 25-ton Diesel Locomotive to fuel diesel-powered equipment (i.e., forklifts) at or near the working section.

(b) The petitioner is purchasing diesel-powered permissible 650 shield hauler scoops. These scoops will be utilized to transport shields (roof supports) to and from rail-mounted cars from the longwall set-up or recovery face.

(c) Utilizing a locomotive as a diesel fuel transportation unit will eliminate the need for equipment to tram, potentially several hundred feet, to an outby fueling location.

(d) As required by West Virginia regulations, the petitioner will submit a plan to the West Virginia Office of Miners' Health Safety and Training outlining the special safety precautions that will be taken to insure the protection of miners when fueling in an escapeway using the locomotive.

The petitioner proposes the following alternative method:

(a) The petitioner will equip the diesel Brookville locomotive with a fuel tank constructed of 3/16-inch steel plates designed to serve as both the motor's fuel tank and fuel dispensing tank. The tank will be equipped with an 8 gallons per minute (gpm) pump that can only dispense 50 percent of the tank's capacity, which will ensure the motor's fuel supply cannot be completely depleted.

(b) The petitioner will shut off the locomotive's engine during the fueling process. The 8 gpm fuel dispensing pump will operate using a separate battery power source, added to supply power to the pump. The fuel dispensing hose is a 50-foot hose with a no-latch open device and a self-closing valve. There is a power supply switch at the pump's nozzle storage bracket as well as an emergency shut-off switch located above the fuel tank. The emergency switch is protected by a cover that automatically ensures that the switch is in the off position any time the cover is closed.

(c) The petitioner will post the following fueling procedures on the fuel tank:

1. Make sure the fueling sign is hung and the locomotive's engine is shut off.

2. Inspect fire extinguishers prior to beginning the fueling process.

3. Ensure that fire extinguishers are located outby the fueling point.

4. Verify fuel hose, equipment, etc. are in good condition.

5. Test for methane in the atmosphere.

6. Check for potential ignition sources and other hazards in the area.

7. Notify the mine dispatcher before starting.

8. Unlock and open the emergency shut-off switch.

9. Check for any spills after the fueling is complete.

10. Shut off the emergency switch and close locked cover.

11. Notify the mine dispatcher after completion.

(d) The petitioner shall:

1. Equip the tank with a 4-inch vent designed to open at a pressure not to exceed 2.5 pounds per square inch, as required by 30 CFR 75.1904(b).

2. Identify and mark tank openings and pressure-test the tank, fittings, and components.

3. Equip the pump dispensing line and fuel supply lines with shut-off valves as required by 30 CFR 75.1904(b)(6).

4. Equip the pump dispensing line with an anti-siphoning device as required by 30 CFR 75.1905(b)(iii).

5. Provide the pump dispensing line with a self-closing valve with no latch-open device as required by 30 CFR 75.1905(b)(3)(ii).

6. Install additional fire suppression and detection to ensure that the system protects and meets all of the requirements of 30 CFR 75.1911.

(e) Within 60 days after the Proposed Decision and Order (PDO) becomes final, the petitioner will submit proposed revisions for its approved part 48 training plan to the District Manager. The proposed revisions will include initial and refresher training regarding compliance with the terms and conditions of the PDO.

The petitioner asserts that the alternative method proposed will at all times guarantee no less than the same measure of protection afforded the miners under the mandatory standard.

Docket Number: M-2021-044-C.

Petitioner: Mingo Logan Coal, LLC, P.O. Box E, Sharples, West Virginia 25183.

Mine: Mountaineer II Mine, MSHA ID No. 46-09029, located in Logan County, West Virginia.

Regulation Affected: 30 CFR 18.35(a)(5)(i) (Portable (trailing) cables and cords).

Modification Request: The petitioner requests a modification of 30 CFR 18.35(a)(5)(i) to increase the maximum length of trailing cables supplying power to face equipment. Specifically, the petitioner requests a modification to permit an increase in the maximum length of trailing cables supplying power to face equipment to 1,000 feet.

The petitioner states that:

(a) The mine plan requires maintenance of large pillars for roof control requirements. The larger pillars require machines to travel longer distances to the working face.

(b) The power center is currently located two crosscuts outby in the air intake entry, and the maximum cable length is 380 feet.

(c) The air intake entry is the primary escapeway.

(d) The power center partially obstructs the intake ventilation. This complicates the ventilation system because it increases the overall restriction at the section's intake dumping point. This further complicates ventilation because belt air intake is utilized throughout the mine and a strict balance between intake and belt air intake must be maintained per regulation and the approved ventilation plan.

(e) One-thousand-foot cables will allow the power center to be located in a crosscut instead of the escapeway. The cable length during normal production will be 466 feet. However, extending the maximum length to 1,000 feet, prevents the risk of cable damage and potential operator injury if a machine travels beyond the 500 feet length allowed by the standard, breaking the cable. Operators may lose track of how much cable is on the reel and overextend the distance. Extending the maximum cable lengths to 1,000 feet when mining larger pillars mitigates a potential safety hazard of a cable breaking and striking an operator.

(f) Locating the power center in a crosscut rather than in the primary escapeway improves miner safety by providing unobstructed egress from the mine during an evacuation event.

(g) Locating the power center in a crosscut will not obstruct the intake ventilation.

The petitioner proposes the following alternative method:

(a) The maximum length of the 995-volt, three-phase, alternating current trailing cables shall not exceed 1,000 feet in length and shall have a 90 degree Celsius insulation rating. The maximum length of the 600-volt, three phase, alternating current, trailing cables supplying section loading machines, roof bolters, and shuttle cars shall not exceed 1,000 feet in length and shall have a 90 degree Celsius insulation rating.

(b) The trailing cable shall not be smaller than No. 2/0 American Wire Gauge (AWG) for the continuous mining machine.

(c) The trailing cables shall not be smaller than No. 2 AWG for the section roof bolting machines and shuttle cars.

(d) All circuit breakers used to protect No. 2/0 AWG cables not to exceed 1,000 feet in length shall have instantaneous trip units set to trip at 1,500 amperes. The circuit breakers' trip settings shall be sealed and the circuit breakers shall have permanent, legible labels identifying the circuit as being suitable for protecting No. 2/0 AWG cables.

(e) Replacement circuit breakers and/or instantaneous trip units used to protect No. 2/0 AWG trailing cables shall be set to trip at 1,500 amperes and this setting shall be sealed.

(f) All circuit breakers used to protect No. 2 AWG trailing cables not to exceed 1,000 feet in length shall have instantaneous trip units set to trip at 600 amperes. The circuit breakers' trip setting shall be sealed, and the circuit breakers shall have permanent, legible labels, identifying the circuit breakers as being set for the size of the cable.

(g) Replacement circuit breakers and/or instantaneous trip units used to protect No. 2 AWG cables shall be set to trip at 600 amperes and shall be sealed.

(h) During each production day, persons designated by the operator shall visually examine the trailing cables to ensure that the cables are in safe operating condition and that the trip settings are sealed and do not exceed the settings stipulated in this petition.

(i) Any trailing cable that is not in safe operating condition shall be removed from service immediately and repaired or replaced. In addition, if mining methods or operation procedures cause or contribute to the damage of any trailing cable, additional precautions shall be taken to ensure that the cable is protected and maintained in a safe operating condition.

(j) Each splice or repair in the trailing cable shall be made in a proper workmanlike manner and in accordance with the instructions of the manufacturer of the splice or repair kit. The outer jacket of each splice or repair shall be vulcanized with flame resistant material or made with material that has been accepted by MSHA as flame resistant under 30 CFR part 18.

(k) Permanent warning labels shall be installed and maintained on the covers of each circuit breaker and trailing cable disconnecting device indicating that the trailing cable can only be connected to a properly adjusted and sealed circuit breaker. These labels shall warn miners not to change or alter the sealed trip settings and not to connect the trailing cables to an improperly adjusted circuit breaker.

(l) The conditions of this petition shall not be implemented until all miners designated to examine the integrity of the seals, verify the trip settings, and examine trailing cables for defects have received the training outlined in this petition.

(m) Within 60 days after the proposed decision and order becomes final, the petitioner shall submit proposed revisions to its approved 30 CFR part 48 training plan to the MSHA District Manager. The proposed revisions shall specify task training for miners designated to verify that the trip settings of the circuit interrupting devices protecting the affected trailing cables do not exceed the specified settings. The training shall include the following elements:

1. The hazards of setting the circuit interrupting device too high to adequately protect the trailing cable.

2. How to verify that the circuit interrupting devices protecting the trailing cables are properly set and maintained.

3. Mining methods and operating procedures to protect the trailing cables against damage.

4. Proper procedures for examining the affected trailing cables to ensure they are in safe operating condition.

The petitioner asserts that the alternative method proposed will at all times guarantee no less than the same measure of protection afforded the miners under the mandatory standard.

Song-ae Aromie Noe,
Acting Director, Office of Standards, Regulations, and Variances.

[FR Doc. 2022-03776 Filed 2-22-22; 8:45 am]

BILLING CODE 4520-43-P